DEPARTMENT OF AGRICULTURE

Food Safety and Inspection Service

[Docket No. FSIS-2013-0005]

Interagency Risk Assessment—Listeria monocytogenes in Retail Delicatessens: Notice of a Public Meeting

AGENCY: Food Safety and Inspection Service, USDA.

ACTION: Notice of public meeting.

SUMMARY: The Food Safety and Inspection Service (FSIS) and the Food and Drug Administration/Center for Food Safety and Applied Nutrition (FDA/CFSAN) are holding a public meeting on May 22, 2013, to present the background, approach, scope, and findings of the draft “Interagency Risk Assessment—L. monocytogenes in Retail Delicatessens.” The purpose of this draft quantitative risk assessment (QRA) is to evaluate the public health impact of changes in retail delicatessen (deli) practices and potential interventions to reduce or prevent L. monocytogenes contamination in ready-to-eat (RTE) foods that are sliced, prepared, or packaged in retail facilities. FSIS and FDA invite interested individuals, organizations, and other stakeholders to participate in the meeting and to provide comments on the draft QRA.

DATES: The public meeting will be held on May 22, 2013 from 8:45 a.m. to 4:15 p.m. EDT. Submit either electronic or written comments to FSIS June 24, 2013.

A copy of the agenda will be made available for viewing prior to the meeting on FSIS's Web site at www.fsis.usda.gov/News/Meetings_&_Events/.

ADDRESSES: The meeting will be held in Washington, DC, on May 22, 2013, in the USDA Jefferson Auditorium (South Building), 1400 Independence Avenue SW., Washington, DC 20250. Attendees must provide a photo ID to enter the building. The Jefferson Auditorium is located between Wings 5 and 6 in the South Building. Attendees should enter the building via Wing 5 or 7 on 14th Street and Independence Avenue SW. After 9:30 a.m., attendees should enter the building via the Wing 1 entrance.

Registration: Registration will begin at 8:15 a.m. Pre-registration for this meeting is encouraged. To pre-register, access the FSIS Web site, http://www.fsis.usda.gov/News/Meetings_&_Events/.

Contact Joan Lindenberger for more information on logistics at (202) 720-0284. Persons requiring a sign language interpreter or other special accommodations should notify Ms. Lindenberger by May 13, 2013.

Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2013-0005. Comments received in response to this docket will be made available for public inspection and posted without change, including any personal information, to http://www.regulations.gov.

Docket: For access to background documents or comments received, go to the FSIS Docket Room at Patriots Plaza 3, 355 E Street SW., Room 8-164, Washington, DC 20250-3700 between 8:00 a.m. and 4:30 p.m., Monday through Friday.

FOR FURTHER INFORMATION CONTACT: Janell Kause, Scientific Advisor for Risk Assessment, Office of Public Health Science, Food Safety and Inspection Service, USDA, 355 E Street SW., Washington, DC 20024; Telephone: (202) 690-0286, FAX: (202) 690-6337, Email: Janell.Kause@fsis.usda.gov.

SUPPLEMENTARY INFORMATION:

I. Background

FSIS and FDA will issue a draft quantitative risk assessment (QRA), “Interagency Risk Assessment—Listeria monocytogenes in Retail Delicatessens” for public comment prior to the public meeting. This draft QRA provides a scientific assessment of the risk of foodborne illness associated with consumption of RTE foods (i.e., deli meats, cheese, and deli salads) commonly prepared and sold in the deli of a retail food store and examines how that risk may be impacted by changes to common or recommended practices. FSIS and FDA have involved stakeholders and the public in the development of this QRA to ensure its utility.

A request for comments, scientific data, and information for this QRA was published in the Federal Register on January 21, 2009 (Ref. 1). In addition, FSIS and FDA held a public meeting on June 23, 2009, to present the background, approach, scope, and data needs for this QRA (Ref. 2) (transcripts are available for viewing by the public in the FSIS docket room and on the FSIS Web site at http://www.fsis.usda.gov/PDF/Listeria-Transcript_062309.pdf).

II. Purpose of the Meeting and Agenda

The purpose of the meeting on May 22, 2013, is to present the background, approach, and findings of the draft “Interagency Risk Assessment—Listeria monocytogenes in Retail Delicatessens,” and gather public input.

A copy of the agenda will be made available for viewing prior to the meeting on FSIS's Web site at http://www.fsis.usda.gov/News/Meetings_&_Events/.

The meeting agenda will include presentations on background information relevant to L. monocytogenes at retail and data commissioned to fill specific risk assessment data needs, the overall risk assessment modeling approach, and findings. Time will be provided for questions and comments from the participants.

III. Transcripts

Please be advised that as soon as a transcript is available, it will be accessible at http://www.regulations.gov. The transcript may be viewed at FSIS Docket Room, Docket Clerk, U.S. Department of Agriculture, Patriots Plaza 3, 355 E Street SW., Room 8-164, Washington, DC 20250-3700 between 8:00 a.m. and 4:30 p.m., Monday through Friday and will also be posted on the Agency Web site (http://www.fsis.usda.gov).

IV. References

The following references are on display in the FSIS Docket Room at the address above between 8:00 a.m. and 4:30 p.m., Monday through Friday (FSIS have verified the following Web site addresses, but FSIS is not responsible for any subsequent changes to the Web sites after this document publishes in the Federal Register.)

1. Risk Assessment of the Public Health Impact from Foodborne Listeria monocytogenes in Some Ready-to-Eat Foods Sliced, Prepared, and/or Packaged in Retail Facilities; Request for Comments and for Scientific Data and Information. (74 FR 3617 (January 21, 2009)), Docket No. FDA-2008-N-0658, http://www.fda.gov/OHRMS/DOCKETS/98fr/E9-938.pdf.

2. Interagency Retail Listeria monocytogenes Risk Assessment: Notice of a Public Meeting. (74 FR 27276; June 9, 2009). Docket No. FSIS-2009-0012, http://www.gpo.gov/fdsys/pkg/FR-2009-06-09/html/E9-13378.htm.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password-protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on April 18, 2013.
Alfred V. Almanza,
Administrator.

[FR Doc. 2013-09508 Filed 4-22-13; 8:45 am]

BILLING CODE 3410-DM-P